INTERNATIONAL TRADE COMMISSION

[Inv. No. 337-TA-473]

In the Matter of Certain Video Game Systems, Accessories, and Components Thereof; Issuance of Limited Exclusion Order and Cease and Desist Order; Termination of Investigation

AGENCY: U.S. International Trade Commission.

SUMMARY: Notice is hereby given that the U.S. International Trade Commission has terminated the above-captioned investigation and issued a limited exclusion order and a cease and desist order.

FOR FURTHER INFORMATION CONTACT: David I. Wilson, Esq., Office of the General Counsel, U.S. International Trade Commission, 500 E Street, S.W., Washington, DC 20436, telephone 202-708-2310. Copies of the limited exclusion order and cease and desist order, the Commission opinion in support thereof, and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server at http://www.usitc.gov. The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: The Commission voted to institute this investigation, which concerns allegations of unfair acts in violation of section 337 of the Tariff Act of 1930, 19 U.S.C. § 1337, in the importation and sale of certain video game accessories on July 19, 2002. 67 FR 48949 (July 26, 2002). On August 21, 2002, complainant Microsoft Corporation, Redmond, Washington, (Microsoft) moved, pursuant to 19 U.S.C. § 1337(a)(1) and 19 CFR § 210.16, for an order directing the only respondent, Ultimate Game Club Ltd. (UGC), to show cause why it should not be found in default for failure to respond to Microsoft's complaint. The Commission investigative attorney (IA) supported Microsoft's motion. The presiding administrative law judge (ALJ) issued Order No. 4 on September 5, 2002, directing UGC to show cause why it should not be found in default. UGC did not respond to that order.

On October 9, 2002, the ALJ issued an initial determination (ID) finding UGC in default pursuant to 19 CFR § 210.16, and ruling that UGC had waived its rights to appear, to be served with documents, and to contest the allegations at issue in the investigation. No petitions for review of the ID were filed. The Commission decided not to review the ID on October 23, 2002, 67 FR 66002 (October 29, 2002), and the ID became the Commission's final determination under 19 CFR § 210.42. On October 23, 2002, the Commission issued a notice requesting a briefing on the issues of remedy, the public interest, and bonding. 67 FR 66002 (October 29, 2002). On November 5, 2002, pursuant to 19 U.S.C. § 1337(g)(1) and 19 CFR. § 210.16(c)(1), complainant Microsoft filed a declaration seeking limited relief against the defaulting respondent. In its declaration, Microsoft requested that the Commission issue a limited exclusion order and a cease and desist order against UGC.

The Commission solicited comments from the parties, interested government agencies, and other persons concerning the issues of remedy, the public interest, and bonding. 67 FR 66002 (October 29, 2002). Complainant and the IA filed proposed remedial orders and addressed the issues of remedy, the public interest, and bonding. No comments were filed by government agencies or other interested persons.

Section 337(g)(1) of the Tariff Act of 1930 provides that the Commission shall presume the facts alleged in a complaint to be true, and upon request issue a limited exclusion order and/or cease and desist order if: (1) A complaint is filed against a person under section 337, (2) the complaint and a notice of investigation are served on the person, (3) the person fails to respond to the complaint and notice or otherwise fails to appear to answer the complaint and notice, (4) the person fails to show good cause why it should not be found in default, and (5) the complainant seeks relief limited to that person. Such an order shall be issued unless, after considering the effect of such exclusion, the Commission finds that such exclusion should not be issued.

The Commission determined that each of the statutory requirements for the issuance of a limited exclusion order and a cease and desist order were met with respect to defaulting respondent UGC. The Commission further determined that the public interest factors enumerated in sections 337(d) and 337(f) did not preclude the issuance of such relief. Finally, the Commission determined that the bond during the Presidential review period shall be in the amount of 100 percent of the entered value of the imported articles.

This action is taken under the authority of section 337 of the Tariff Act of 1930, 19 U.S.C. § 1337, and section 210.16 (c) of the Commission’s Rules of Practice and Procedure, 19 CFR § 210.16.

By order of the Commission.
Issued: December 24, 2002.
Marilyn R. Abbott,
Secretary.

[FR Doc. 02-32892 Filed 12-27-02; 8:45 am]

BILLING CODE 7020-02-P